DEPARTMENT OF ENERGY

Federal Energy Regulatory Commission

[Docket No. RP12-346-000]

PostRock KPC Pipeline, LLC; Notice of Technical Conference

Take notice that the Commission will convene a technical conference on Tuesday, March 27, 2012, at 10:30 a.m. (EDT), in a room to be designated at the offices of the Federal Energy Regulatory Commission, 888 First Street NE., Washington DC 20426.

The technical conference will address all aspects of PostRock KPC Pipeline, LLC's (KPC) proposed tariff revisions to be part of its FERC Gas Tariff, Third Revised Volume No. 1. The proposed revisions would allow KPC to consider blending and pairing arrangements when deciding whether to exercise discretion under the tariff to accept receipts that fail to meet applicable gas quality specifications, as discussed in the Commission's Order issued on February 29, 2012.¹

¹ PostRock KPC Pipeline, LLC, 138 FERC ¶ 61,146 (2012).

FERC conferences are accessible under section 508 of the Rehabilitation Act of 1973. For accessibility accommodations please send an email to accessibility@ferc.gov or call toll free (866) 208-3372 (voice) or 202-502-8659 (TTY), or send a fax to 202-208-2106 with the required accommodations.

All interested persons are permitted to attend. For further information please contact Jenifer Lucas at (202) 502-8362 or email jenifer.lucas@ferc.gov.

Dated: March 6, 2012.
Kimberly D. Bose,
Secretary.

[FR Doc. 2012-5972 Filed 3-12-12; 8:45 am]

BILLING CODE 6717-01-P